DEPARTMENT OF TRANSPORTATION

Surface Transportation Board

[STB Finance Docket No. 35281]

CSX Transportation, Inc.—Trackage Rights Exemption—Commonwealth Railway Incorporated

Notice to the Parties:

On August 12, 2009, a notice of exemption was served and published in the Federal Register (74 FR 40642) in this proceeding for the non-exclusive overhead trackage rights granted to CSX Transportation, Inc., by Commonwealth Railway Incorporated (CRI) over CRI's line of railroad between Suffolk, VA, milepost 16.50, and Churchland, VA, milepost 9.90, a distance of approximately 6.60 miles. The notice, at note 2, contained a reference to the need to disclose interchange commitments pursuant to 49 CFR 1180.4(g)(4). Because trackage rights agreements are required to be filed with a party's verified notice of exemption and are available to the public, further disclosure is not required in a notice of exemption for trackage rights and will not be required in such notices in the future. All other information in the notice remains unchanged.

Board decisions and notices are available on our Web site at http://www.stb.dot.gov.

Decided: August 20, 2009.
By the Board, Rachel D. Campbell, Director, Office of Proceedings.
Jeffrey Herzig,
Clearance Clerk.

[FR Doc. E9-20657 Filed 8-26-09; 8:45 am]

BILLING CODE 4915-01-P